DEPARTMENT OF TRANSPORTATION

Federal Aviation Administration

14 CFR Part 39

[Docket No. 2000-NM-261-AD; Amendment 39-12297; AD 2001-13-16]

RIN 2120-AA64

Airworthiness Directives; Airbus Model A310 and Model A300 B4-600, A300 B4-600R, and A300 F4-600R (Collectively Called A300-600) Series Airplanes

AGENCY: Federal Aviation Administration, DOT.

ACTION: Final rule.

SUMMARY: This amendment adopts a new airworthiness directive (AD), applicable to certain Model A310 and Model A300 B4-600, A300 B4-600R, and A300 F4-600R (collectively called A300-600) series airplanes, that requires replacement of the ejection jack on the ram air turbine (RAT). The actions specified by this AD are intended to prevent the ejection jack on the RAT from failing when the RAT is deployed at high airspeeds, leading to a loss of ability to properly restrain the movement of the RAT, possibly resulting in damage to the RAT itself and to other airplane components. In the event of an emergency, failure of the ejection jack on the RAT could also result in a reduction of hydraulic pressure or electrical power on the airplane. This action is intended to address the identified unsafe condition.

DATES: Effective August 6, 2001.

The incorporation by reference of certain publications listed in the regulations is approved by the Director of the Federal Register as of August 6, 2001.

ADDRESSES: The service information referenced in this AD may be obtained from from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, ANM-116, FAA, Transport Airplane Directorate, 1601 Lind Ave., SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A310 and Model A300 B4-600, A300 B4-600R, and A300 F4-600R (collectively called A300-600) series airplanes was published in the Federal Register on February 14, 2001 (66 FR 10234). That action proposed to require replacement of the ejection jack on the ram air turbine (RAT).

Comments

Interested persons have been afforded an opportunity to participate in the making of this amendment. Due consideration has been given to the single comment received.

The commenter generally supports the proposed rule, but requests credit for accomplishment of the modification in accordance with the original issue of the service bulletins. The FAA agrees and has added a new NOTE 2 giving such credit.

Conclusion

After careful review of the available data, including the comment noted above, the FAA has determined that air safety and the public interest require the adoption of the rule with the change described previously. The FAA has determined that this change will neither increase the economic burden on any operator nor increase the scope of the AD.

Cost Impact

The FAA estimates that 117 Model A310 and Model A300 B4-600, A300 B4-600R, and A300 F4-600R (collectively called A300-600) series airplanes of U.S. registry will be affected by this AD, that it will take approximately 6 work hours per airplane to accomplish the required actions, and that the average labor rate is $60 per work hour. There will be no charge for required parts. Based on these figures, the cost impact of the AD on U.S. operators is estimated to be $42,120 or $360 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-13-16 Airbus Industrie: Amendment 39-12297. Docket 2000-NM-261-AD.

Applicability: Model A310 and Model A300 B4-600, A300 B4-600R, and A300 F4-600R (collectively called A300-600) series airplanes; certificated in any category, except for airplanes on which Airbus Modification 12259 has been embodied.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the ejection jack on the ram air turbine (RAT) from failing when the RAT is deployed at high airspeeds, leading to a loss of ability to properly restrain the movement of the RAT, possibly resulting in damage to the RAT itself and to other airplane components and in reduced hydraulic pressure or electrical power, if such failure occurs during an emergency, accomplish the following:

Modification

(a) Within 34 months after the effective date of this AD: Modify the RAT per Airbus Service Bulletin A310-29-2086, Revision 01 (for Model A310 series airplanes), or A300-29-6048, Revision 01 (for Model A300-600 series airplanes), both dated July 12, 2000, as applicable.

Note 2: Modification of the RAT accomplished prior to the effective date of this AD in accordance with Airbus Service Bulletin A300-29-6048 or Airbus Service Bulletin A310-29-2086, both dated April 6, 2000, as applicable, is considered acceptable for compliance with the action specified in paragraph (a) of this AD.

(b) As of the effective date of this AD, no person shall install on any airplane an ejection jack, part number 730820, unless it has been modified per paragraph (a) of this AD.

Note 3: The Airbus service bulletins refer to Hamilton Sundstrand Service Bulletin No. ERPS03/04EJ-29-1, as an additional source of service information for accomplishment of the modification of the RAT and testing of the modified RAT.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The modification shall be done in accordance with Airbus Service Bulletin A300-29-6048, Revision 01, dated July 12, 2000; or Airbus Service Bulletin A310-29-2086, Revision 01, dated July 12, 2000; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 2000-284-317(B), dated July 12, 2000.

Effective Date

(f) This amendment becomes effective on August 6, 2001.

Issued in Renton, Washington, on June 21, 2001.
Kalene C. Yanamura,
Acting Manager, Transport Airplane Directorate, Aircraft Certification Service.

[FR Doc. 01-16201 Filed 6-29-01; 8:45 am]

BILLING CODE 4910-13-P